ENVIRONMENTAL PROTECTION AGENCY

40 CFR Part 721

[EPA-HQ-OPPT-2005-0015; FRL-8068-8]

RIN 2070-AJ18

Perfluoroalkyl Sulfonates; Proposed Significant New Use Rule; Extension of Comment Period

AGENCY: Environmental Protection Agency (EPA).

ACTION: Proposed rule; extension of comment period.

SUMMARY: This document extends the public comment period for the proposed Significant New Use Rule for certain Perfluoroalkyl Sulfonates issued under the authority of section 5(a)(2) of the Toxic Substances Control Act (TSCA) that was published in the Federal Register on March 10, 2006 (71 FR 12311) (FRL-7740-6). On April 10, 2006 (71 FR 18055) (FRL-7779-7), EPA extended the end of the public comment period from April 10, 2006 to May 10, 2006. In this action, EPA is further extending the end of the comment period from May 10, 2006 to August 8, 2006.

DATES: Comments must be received on or before August 8, 2006.

ADDRESSES: Follow the detailed instructions as provided under ADDRESSES in the Federal Register document of March 10, 2006 (71 FR 12311).

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

SUPPLEMENTARY INFORMATION:

I. General Information

The Agency included in the proposed rule a list of those who may be potentially affected by this action. If you have questions regarding the applicability of this action to a particular entity, consult the technical person listed under FOR FURTHER INFORMATION CONTACT.

II. What Action is EPA Taking?

This document extends the public comment period for the proposed SNUR for certain perfluoroalkyl sulfonates issued under the authority of section 5(a)(2) of TSCA that was published in the Federal Register on March 10, 2006 (71 FR 12311). On April 10, 2006 (71 FR 18055), EPA extended the end of the public comment period from April 10, 2006 to May 10, 2006. In today's action, EPA is further extending the end of the comment period from May 10, 2006, to August 8, 2006. The Agency is taking this action because EPA has received a request from certain stakeholders in the semiconductor industry to extend the comment period on the proposed SNUR, citing that 90 days is the minimum extension period they would require to provide EPA with the necessary information it needs to finalize the SNUR. Without this extension, the Semiconductor Industry Association (SIA) and Semiconductor Equipment and Materials International (SEMI) believe they would not have an adequate opportunity to comment on the proposed SNUR.

III. What is the Agency's Authority for Taking this Action?

Section 5(a)(2) of TSCA (15 U.S.C. 2604(a)(2)) authorizes EPA to determine that a use of a chemical substance is a “significant new use.” EPA must make this determination by promulgating a rule after considering all relevant factors, including those listed in TSCA section 5(a)(2). These factors include the projected production volume of a chemical substance; the extent to which a use changes or increases the type, form, magnitude, or duration of exposure to the substance; and the reasonably anticipated manner of producing, processing, distributing, or disposing of the substance. EPA construes the statute to allow consideration of any other relevant factors, in addition to those listed in section 5(a)(2). Once EPA determines that a use of a chemical substance is a significant new use, and promulgates a SNUR, section 5(a)(1)(B) of TSCA requires persons to submit a Significant New Use Notice (SNUN) to EPA at least 90 days before they manufacture, import, or process the chemical substance for that use.

IV. Do Any Statutory and Executive Order Reviews Apply to this Action?

No. This action is not a rulemaking, it merely extends the date by which public comments on a proposed rule must be submitted to EPA on a proposed rule that previously published in the Federal Register of March 10, 2006 (71 FR 12311). For information about the applicability of the statutory and executive order reviews to the proposed rule, please refer to the discussion in Unit XII. of that document (71 FR 12311).

List of Subjects in 40 CFR Part 721

Environmental protection, Chemicals, Hazardous substances, Reporting and recordkeeping requirements.

Dated: May 4, 2006.
Charles M. Auer,
Director, Office of Pollution Prevention and Toxics.

[FR Doc. 06-4353 Filed 5-5-06; 1:01 pm]

BILLING CODE 6560-50-S